DEPARTMENT OF TRANSPORTATION

Federal Aviation Administration

14 CFR Part 71

[Docket No. FAA-2002-14348; Airspace Docket No. 03-ACE-5]

Establishment of Class E Surface Area Airspace; and Modification of Class D Airspace; Topeka, Forbes Field, KS

AGENCY: Federal Aviation Administration (FAA), DOT.

ACTION: Final rule; correction.

SUMMARY: This action corrects a final rule published in the Federal Register on Friday, April 11, 2003, (68 FR 17729) [FR Doc. 03-8568]. It addresses comments received regarding this Docket that were inadvertently overlooked in the final rule determination.

EFFECTIVE DATE: 0901 UTC, May 15, 2003.

FOR FURTHER INFORMATION CONTACT: Kathy Randolph, Air Traffic Division, Airspace Branch, ACE-520C, DOT Regional Headquarters Building, Federal Aviation Administration, 901 Locust, Kansas City, MO 64106; telephone (816) 329-2525.

SUPPLEMENTARY INFORMATION:

History

On Monday, February 10, 2003, the FAA proposed to amend 14 CFR part 71 to establish a Class E surface area and to modify Class D airspace at Topeka, Forbes Field, KS (68 FR 6677) [FR Doc. 03-3267]. The proposal was to establish a Class E surface area at Topeka, Forbes Field, KS for those times when the air traffic control tower (ATCT) is closed. It also proposed to modify the Class D airspace and its legal description by incorporating the revised Topeka, Forbes Field, KS airport reference point. Interested parties were invited to participate in this rulemaking proceeding by submitting written comments on the proposal to the FAA. On Friday, April 11, 2003, the FAA issued a final rule (68 FR 17729) [FR Doc. 03-8568] that included the statement “No comments objecting to the proposal were received.” This statement was incorrect. Responses to the proposal were inadvertently overlooked when the final rule was issued. This action addresses those comments.

According, pursuant to the authority delegated to me, the publication on Friday, April 11, 2003, of the final rule (68 FR 17729) [FR Doc. 03-8568] is corrected as follows:

On page 17730, Column 1, first paragraph, last two lines, change “No comments objecting to the proposal were received” to read: “There were four responses to the proposal, one of which was an objection. The mayor of Topeka, KS, the Topeka, Forbes Field airport manager and the manager of the Topeka, Forbes Field Federal Contract Tower all supported the proposal. Mr. Randy Hansen, of the Experimental Aircraft Association (EAA), submitted the sole objecting comment. Mr. Hansen stated that the EAA felt the increase in protective airspace was not warranted for the limited volume of aircraft using the airfield during the times the proposed airspace would be in effect and that there was a lack of safety data to support the change in airspace at Topeka Forbes Field. The FAA does not concur with Mr. Hansen's comment. Numerous large military aircraft operate in and out of Topeka, Forbes Field. Mission requirements dictate that these aircraft conduct night operations. When conducting night operations the aircraft often return to Topeka, Forbes Field after the ATCT is closed. A Class E surface area at Topeka, Forbes Field, KS will afford a greater margin of safety, during low weather conditions, not only for the military aircraft but also for other aircraft operating in the vicinity of Topeka, Forbes Field.”

Issued in Kansas City, MO, on April 21, 2003.
Herman J. Lyons, Jr.,
Manager, Air Traffic Division, Central Region.

[FR Doc. 03-11032 Filed 5-2-03; 8:45 am]

BILLING CODE 4910-13-M